DEPARTMENT OF ENERGY

Federal Energy Regulatory Commission

Combined Notice of Filings #2

Take notice that the Commission received the following electric corporate filings:

Docket Numbers: EC13-148-000

Applicants: U.S. Gas & Electric, Inc., Energy Services Providers, Inc., Massachusetts Gas & Electric, Inc., Connecticut Gas & Electric, Inc.

Description: Application for Authorization for Disposition of Jurisdictional Facilities of U.S. Gas & Electric, Inc., et al.

Filed Date: 9/17/13

Accession Number: 20130917-5066

Comments Due: 5 p.m. ET 10/8/13

Docket Numbers: EC13-149-000

Applicants: Wheat Field Wind Power Project LLC

Description: Application for Authorization for Disposition of Jurisdictional Facilities and Request for Expedited Action of Wheat Field Wind Power Project LLC.

Filed Date: 9/17/13

Accession Number: 20130917-5072

Comments Due: 5 p.m. ET 10/8/13

Take notice that the Commission received the following electric rate filings:

Docket Numbers: ER13-2103-001

Applicants: ORNI 47 LLC

Description: ORNI 47 LLC Amendment to Petition to be effective 10/1/2013.

Filed Date: 9/17/13

Accession Number: 20130917-5028

Comments Due: 5 p.m. ET 10/8/13

Docket Numbers: ER13-2105-001

Applicants: Exelon Generation Company, LLC

Description: ExGen NOSA Rate Schedule 21 Supplemental Filing to be effective 12/31/9998.

Filed Date: 9/17/13

Accession Number: 20130917-5034

Comments Due: 5 p.m. ET 10/8/13

Docket Numbers: ER13-2295-001

Applicants: Midcontinent Independent System Operator, Inc.

Description: 09-17-2013 TCDC Amendment Filing to be effective 11/1/2013.

Filed Date: 9/17/13

Accession Number: 20130917-5059

Comments Due: 5 p.m. ET 9/24/13

Docket Numbers: ER13-2391-000

Applicants: PJM Interconnection, L.L.C.

Description: Notice of Cancellation of Original Service Agreement No. 3344, Queue X1-088 to be effective 9/16/2013.

Filed Date: 9/17/13

Accession Number: 20130917-5060

Comments Due: 5 p.m. ET 10/8/13

Docket Numbers: ER13-2392-000

Applicants: PJM Interconnection, L.L.C.

Description: Notice of cancellation of executed Interconnection Service Agreement No. 1351, Queue No. K02_CE18 of PJM Interconnection, L.L.C.

Filed Date: 9/17/13

Accession Number: 20130917-5065

Comments Due: 5 p.m. ET 10/8/13

Docket Numbers: ER13-2393-000

Applicants: PJM Interconnection, L.L.C.

Description: Notice of cancellation of executed Interconnection Service Agreement No. 2123, Queue No. Q28 of PJM Interconnection, L.L.C.

Filed Date: 9/17/13

Accession Number: 20130917-5068

Comments Due: 5 p.m. ET 10/8/13

Docket Numbers: ER13-2394-000

Applicants: Midcontinent Independent System Operator, Inc.

Description: 09-17-2013 Ameren-Norris Construction Agr to be effective 9/3/2013.

Filed Date: 9/17/13

Accession Number: 20130917-5071

Comments Due: 5 p.m. ET 10/8/13

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 17, 2013.
Nathaniel J. Davis, Sr.,
Deputy Secretary.

[FR Doc. 2013-23167 Filed 9-23-13; 8:45 am]

BILLING CODE 6717-01-P